DEPARTMENT OF ENERGY

Federal Energy Regulatory Commission

[Docket No. RP01-278-002]

Texas Gas Transmission Corporation; Notice of Compliance Filing

October 22, 2001.

Take notice that on October 17, 2001, Texas Gas Transmission Corporation (Texas Gas) tendered for filing as part of its FERC Gas Tariff, First Revised Volume No. 1, the following tariff sheets to become effective October 1, 2001:

Primary

Third Revised Sheet No. 181

Third Revised Sheet No. 182

Third Revised Sheet No. 183

Sheet No. 184 (reserved)

Second Revised Sheet No. 185

Alternate

Alternate Third Revised Sheet No. 181

Alternate Third Revised Sheet No. 182

Alternate Third Revised Sheet No. 183

Texas Gas states that this filing is being submitted in compliance with the Commission's Order issued on September 19, 2001 in the above-referenced docket. As directed, the tariff sheets removed the daily high/low index price for cash-out. In response, Texas Gas proposes to establish a cash-out price based on a weekly high/low index price determined from the weeks within the applicable month, plus the first week of the following month. The primary and alternate sheets require in-kind make-up of imbalances up to 2% and use the same index price for imbalances above 5%. However, the primary sheets also propose to eliminate cash-out for all imbalances up to 5% by also requiring a mandatory in-kind make-up level from 2% to 5% and by eliminating any use of the 100% price index for this tier of imbalance.

Texas Gas states that copies of the revised tariff sheets are being mailed to Texas Gas's jurisdictional customers and interested state commissions.

Any person desiring to protest said filing should file a protest with the Federal Energy Regulatory Commission, 888 First Street, NE, Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-26974 Filed 10-25-01; 8:45 am]

BILLING CODE 6717-01-P